DEPARTMENT OF HEALTH AND HUMAN SERVICES

Centers for Disease Control and Prevention

Disease, Disability, and Injury Prevention and Control Special Emphasis Panel; Teleconference

Disease, Disability, and Injury Prevention and Control Special Emphasis Panel (SEP): Pilot for State-specific Cross-Sectional Surveillance of Persons with Rare Disorders and Longitudinal Assessment of Outcomes, Funding Opportunity Announcement (FOA) DD11-004, and Pilot Longitudinal Data Collection to Inform Public Health—Fragile X Syndrome, FOA DD11-007, initial review.

In accordance with Section 10(a)(2) of the Federal Advisory Committee Act (Pub. L. 92-463), the Centers for Disease Control and Prevention (CDC) announces the aforementioned meeting:

Time and Date: 11 a.m.-5 p.m., April 21, 2011 (Closed).

Place: Teleconference.

Status: The meeting will be closed to the public in accordance with provisions set forth in Section 552b(c)(4) and (6), Title 5 U.S.C., and the Determination of the Director, Management Analysis and Services Office, CDC, pursuant to Public Law 92-463.

Matters to Be Discussed: The meeting will include the initial review, discussion, and evaluation of “Pilot for State-specific Cross-Sectional Surveillance of Persons with Rare Disorders and Longitudinal Assessment of Outcomes, FOA DD11-004, and Pilot Longitudinal Data Collection to Inform Public Health—Fragile X Syndrome, FOA DD11-007.”

Contact Person for More Information: Donald Blackman, PhD, Scientific Review Officer, Extramural Research Program Office, National Center for Chronic Disease Prevention and Health Promotion, CDC, 4770 Buford Highway, NE., Mailstop K-92, Atlanta, Georgia 30341, Telephone: (770) 488-3023, E-mail: DBY7@cdc.gov.

The Director, Management Analysis and Services Office, has been delegated the authority to sign Federal Register notices pertaining to announcements of meetings and other committee management activities, for both the Centers for Disease Control and Prevention and the Agency for Toxic Substances and Disease Registry.

Dated: March 7, 2011.
Elaine L. Baker,
Director, Management Analysis and Services Office, Centers for Disease Control and Prevention.

[FR Doc. 2011-5755 Filed 3-11-11; 8:45 am]

BILLING CODE 4163-18-P